ENVIRONMENTAL PROTECTION AGENCY

[EPA-HQ-OAR-2018-0118; FRL-9985-42-OEI]

Information Collection Request Submitted to OMB for Review and Approval; Comment Request; Servicing of Motor Vehicle Air Conditioners (Renewal)

AGENCY: Environmental Protection Agency (EPA).

ACTION: Notice.

SUMMARY: The Environmental Protection Agency (EPA) has submitted an information collection request (ICR), Servicing of Motor Vehicle Air Conditioners (EPA ICR No. 1617.09, OMB Control No. 2060-0247) to the Office of Management and Budget (OMB) for review and approval in accordance with the Paperwork Reduction Act. This is a proposed extension of the ICR, which is currently approved through December 31, 2018. Public comments were previously requested via the Federal Register on June 6, 2018 during a 60-day comment period. This notice allows for an additional 30 days for public comments. A fuller description of the ICR is given below, including its estimated burden and cost to the public. An agency may not conduct or sponsor and a person is not required to respond to a collection of information unless it displays a currently valid OMB control number.

DATES: Comments must be submitted on or before November 30, 2018.

ADDRESSES: Submit your comments, referencing Docket ID No. EPA-HQ-OAR-2018-0118, to (1) EPA online using www.regulations.gov (our preferred method), by email to a-and-r-docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Christina Thompson, Stratospheric Protection Division, Office of Atmospheric Programs (Mail Code 6205T), Environmental Protection Agency, 1200 Pennsylvania Ave. NW, Washington, DC 20460; telephone number: (202) 564-0983; fax number: (202) 343-2362; email address: thompson.christina@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Section 609 of the Clean Air Act Amendments of 1990 (Act) provides general guidelines for the servicing of motor vehicle air conditioners (MVACs). It states that “no person repairing or servicing motor vehicles for consideration may perform any service on a motor vehicle air conditioner involving the refrigerant for such air conditioner without properly using approved refrigerant recycling equipment and no such person may perform such service unless such person has been properly trained and certified.” In 1992, EPA developed regulations under section 609 that were published in 57 FR 31242, and codified at 40 CFR Subpart B (Section 82.30 et seq.). The information required to be collected under the section 609 regulations is: Approved refrigerant handling equipment; approved independent standards testing organizations; technician training and certification; and certification, reporting and recordkeeping.

Form Numbers: None.

Respondents/affected entities: The following is a list of NAICS codes for organizations potentially affected by the information requirements covered under this ICR. It is meant to include any establishment that may service or maintain motor vehicle air conditioners.

4411 Automobile Dealers

4413 Automotive Parts, Accessories, and Tire Stores

44711 Gasoline Stations with Convenience Stores

8111 Automotive Repair and Maintenance

811198 All Other Automotive Repair and Maintenance

Other affected groups include independent standards testing organizations and organizations with technician certification programs.

Respondent's obligation to respond: Mandatory (40 CFR 82.36, 82.38, 82.40, 82.42).

Estimated number of respondents: 45,902 (per year).

Frequency of response: On occasion, biennially, only once.

Total estimated burden: 4,130 hours (per year). Burden is defined at 5 CFR 1320.03(b).

Total estimated cost: $218,009 (per year), includes $0 annualized capital or operation & maintenance costs.

Changes in estimates: There is a decrease of 33 hours in the total estimated respondent burden compared with the ICR currently approved by OMB. This decrease is due in part to a decrease in the number of new technician certifications and the time allotted for maintenance of the technician certification records. The time associated with the maintenance of these records has decreased, recognizing the move towards electronic recordkeeping which may be more efficient. Additionally, a decrease in the market for small containers of CFC-12 refrigerant has also decreased the burden.

Courtney Kerwin,
Director, Regulatory Support Division.

[FR Doc. 2018-23750 Filed 10-30-18; 8:45 am]

BILLING CODE 6560-50-P45